DEPARTMENT OF TRANSPORTATION

Coast Guard

33 CFR Part 117

[CGD13-01-025]

Drawbridge Operations Regulations; Chehalis River, WA

AGENCY: Coast Guard, DOT.

ACTION: Notice of temporary deviation from regulations.

SUMMARY: The Commander, Thirteenth Coast Guard District has issued a temporary deviation from the regulations governing the operation of the Chehalis River Bridge (State Route 101) across the Chehalis River, mile 0.1, at Aberdeen, Washington. This deviation allows the Washington Department of Transportation (WSDOT) to open both leaves of the bascule span from 12:01 a.m. on September 17 to 12:01 a.m. on November 16, 2001, only if 12 hours notice is provided. Single-leaf openings would be provided on signal according the normal operating schedule of the bridge. Presently, the draw opens on signal from one hour before sunrise to one hour after sunset, except that from 7:15 a.m. to 8:15 a.m. and 4:15 p.m. to 5:15 p.m. Monday through Friday, except federal holidays, the draw need not open for vessels of less than 5000 gross tons. At all other times it opens if at least one hour notice is given. This deviation allows the bridge owner to perform maintenance on the four counterweight link arms of the draw span.

Effective Date: This deviation is effective from 12:01 a.m. on September 17 to 12:01 a.m. on November 16, 2001.

ADDRESSES: Unless otherwise noted, documents referred to in this notice are available for inspection and copying at Commander (oan), Thirteenth Coast Guard District, 915 Second Avenue, Seattle, Washington 98174-1067, room 3510 between 7:45 a.m. and 4:15 p.m., Monday through Friday, except federal holidays. The Bridge Section of the Aids to Navigation and Waterways Management Branch maintain the docket for this temporary deviation.

FOR FURTHER INFORMATION CONTACT: Austin Pratt, Chief, Bridge Section, Aids to Navigation and Waterways Management Branch, Telephone (206) 220-7282.

SUPPLEMENTARY INFORMATION: The Chehalis River Bridge on State Route 101 across the Chehalis River at mile 0.1 provides 35 feet of vertical clearance above Mean High Water. Navigation on the waterway include tugs, barges, commercial fishing boats, oceangoing ships, and recreational vessels. Most of the vessels traveling the Chehalis River can safely pass through a single-leaf opening or the closed draw. The infrequent passage of large piloted vessels always requires double-leaf openings. These large vessels arrive about twice a month or less. The 12-hour minimum notice imposed by this deviation should not produce unreasonable hardship on piloted vessels.

This temporary deviation, authorized under 33 CFR 117.35, allows the Chehalis River Bridge to provide double-leaf openings only after at least 12 hours notice is given from 12:01 a.m. on September 17 to 12:01 a.m. on November 16, 2001.

Dated: September 25, 2001.
Erroll Brown,
Rear Admiral, U.S. Coast Guard, Commander, Thirteenth Coast Guard District.

[FR Doc. 01-25284 Filed 10-5-01; 8:45 am]

BILLING CODE 4910-15-U